DEPARTMENT OF LABOR

Employment and Training Administration

[TA-W-62,273B]

Delphi Corporation, Brake Hose Division, Including On-Site Leased Workers From Bartech, Acro and Securitas Security Services, Dayton, OH; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on April 25, 2008, applicable to workers of Delphi Corporation, Brake Hose Division, including on-site leased workers from Bartech and Acro, Dayton, Ohio. The notice was published in the Federal Register on May 13, 2008 (73 FR 27560).

At the request of the petitioners, the Department reviewed the certification for workers of the subject firm. The workers of the Brake Hose Division produce brake hose for the automotive industry. New information shows that workers leased from Securitas Security Services were employed on-site at the Dayton, Ohio location of Delphi Corporation, Brake Hose Division. The Department has determined that these workers were sufficiently under the control of the subject firm to be considered leased workers.

Based on these findings, the Department is amending this certification to include workers leased from Securitas Security Services working on-site at the Brake Hose Division, Dayton, Ohio location of the subject firm.

The amended notice applicable to TA-W-62,273B is hereby issued as follows:

All workers of Delphi Corporation, Brake Hose Division, including on-site leased workers from Bartech, Acro and Securitas Security Services, Dayton, Ohio, who became totally or partially separated from employment on or after October 8, 2006, through April 25, 2010, are eligible to apply for adjustment assistance under Section 223 of the Trade Act of 1974, and are also eligible to apply for alternative trade adjustment assistance under Section 246 of the Trade Act of 1974.

Signed at Washington, DC, this 30th day of October 2008.
Linda G. Poole,
Certifying Officer, Division of Trade Adjustment Assistance.

[FR Doc. E8-26534 Filed 11-6-08; 8:45 am]

BILLING CODE 4510-FN-P